DEPARTMENT OF TRANSPORTATION

Federal Aviation Administration

Notice Before Waiver With Respect to Land at Baltimore-Washington International Airport, Baltimore, MD

AGENCY: Federal Aviation Administration (FAA), DOT.

ACTION: Notice of intent of waiver with respect to land.

SUMMARY: The FAA is publishing notice of proposed release of 0.239 acres of land (a portion of parcel 165 as identified on the Exhibit “A” Property Map) at the Baltimore-Washington International Airport, Baltimore, Maryland, to the Maryland State Highway Administration (MSHA) for the improvement of Corporate Center Drive. There are no impacts to the Airport and the land is not needed for airport development as shown on the Airport Layout Plan. The parcel was acquired with local funding only based on the Noise Compatibility Plan (NCP) developed under the PART 150 Update.

DATES: Comments must be received on or before September 19, 2008.

ADDRESSES: Comments on this application may be mailed or delivered in triplicate to the FAA at the following address: Terry J. Page, Manager, FAA Washington Airports District Office, 23723 Air Freight Lane, Suite 210, Dulles, Virginia 20166.

In addition, one copy of any comments submitted to the FAA must be mailed or delivered to Ellen Sample, at the following address: Ellen Sample, Manager, Division of Noise and Land Use Compatibility, Maryland Aviation Administration, P.O. Box 8766, BWI Airport, Maryland 21240-0766.

FOR FURTHER INFORMATION CONTACT: Mr. Terry Page, Manager, Washington Airports District Office, 23723 Air Freight Lane, Suite 210, Dulles, Virginia 20166; telephone (703) 661-1354, fax (703) 661-1370, e-mail Terry.Page@faa.gov.

SUPPLEMENTARY INFORMATION: On April 5, 2000, new authorizing legislation became effective. That bill, the Wendell H. Ford Aviation Investment and Reform Act for the 21st Century, Public Law 10-181 (Apr. 5, 2000; 114 Stat. 61) (AIR 21) requires that a 30-day public notice must be provided before the Secretary may waive any condition imposed on an interest in surplus property.

Issued in Chantilly, Virginia, on August 6, 2008.
Terry J. Page,
Manager, Washington Airports District Office, Eastern Region.

[FR Doc. E8-19107 Filed 8-19-08; 8:45 am]

BILLING CODE 4910-13-M